DEPARTMENT OF COMMERCE

International Trade Administration

[A-412-822]

Stainless Steel Bar From the United Kingdom: Notice of Partial Rescission of Antidumping Duty Administrative Review

AGENCY: Import Administration, International Trade Administration, Department of Commerce.

ACTION: Notice of partial rescission of antidumping duty administrative review.

EFFECTIVE DATE: July 10, 2003.

FOR FURTHER INFORMATION CONTACT: Kate Johnson or Rebecca Trainor, Import Administration, International Trade Administration, U.S. Department of Commerce, 14th Street and Constitution Avenue, NW., Washington, DC 20230; telephone: (202) 482-4929 or (202) 482-4007, respectively.

SUPPLEMENTARY INFORMATION:

Background

On March 3, 2003, the Department published in the Federal Register (68 FR 9974) a notice of “Opportunity To Request Administrative Review” of the antidumping duty order on stainless steel bar from the United Kingdom for the period August 2, 2001, through February 28, 2003. On March 28 and 31, 2003, Firth Rixson Special Steels Limited (FRSS) and the petitioners,¹ respectively, requested an administrative review of FRSS's sales for the above-mentioned period. Also on March 31, 2003, Corus Engineering Steels Limited (CES) requested an administrative review of its sales for this period. On April 21, 2003, the Department published a notice of initiation of an administrative review of the antidumping duty order on stainless steel bar from the United Kingdom with respect to these companies. See Initiation of Antidumping and Countervailing Duty Administrative Reviews, 68 FR 19498.

¹ The petitioners are Carpenter Technology Corporation; Crucible Specialty Metals Division, Crucible Materials Corporation; Electralloy Corporation, a Division of G.O. Carlson, Inc.; and Slater Steels Corporation, Specialty Alloys Division.

Partial Rescission of Review

On June 26, 2003, CES timely withdrew its request for an administrative review of its sales during the above-referenced period. Section 351.213(d)(1) of the Department's regulations stipulates that the Secretary may permit a party that requests a review to withdraw the request within 90 days of the date of publication of notice of initiation of the requested review. In this case, CES has withdrawn its request for review within the 90-day period. We have received no other submissions regarding CES's withdrawal of its requests for review. Therefore, we are rescinding in part this review of the antidumping duty order on stainless steel bar from the United Kingdom with respect to CES. This review will continue with respect to FRSS.

This notice is published in accordance with section 751 of the Tariff Act of 1930, as amended, and 19 CFR 351.213(d)(4).

Dated: July 3, 2003.
Jeffrey May,
Deputy Assistant Secretary for Import Administration.

[FR Doc. 03-17515 Filed 7-9-03; 8:45 am]

BILLING CODE 3510-DS-P